DEPARTMENT OF COMMERCE

United States Patent and Trademark Office

Representative and Address Provisions

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before August 19, 2002.

ADDRESSES: Direct all written comments to Susan K. Brown, Records Officer, Office of Data Management, Data Administration Division, USPTO, Suite 310, 2231 Crystal Drive, Washington, DC 20231; by telephone at (703) 308-7400; or by electronic mail at susan.brown@uspto.gov.

FOR FURTHER INFORMATION CONTACT: Requests for additional information should be directed to Robert J. Spar, Director, Office of Patent Legal Administration, USPTO, Washington, DC 20231; by telephone at (703) 308-5107; or by electronic mail at bob.spar@uspto.gov.

SUPPLEMENTARY INFORMATION:

I. Abstract

Under 35 U.S.C. 2 and 37 CFR 1.31-1.36 and 1.363, a patent applicant or assignee of record may grant power of attorney or authorization of agent to a person who is registered to practice before the United States Patent and Trademark Office (USPTO) to act for them in a representative capacity on a patent or application. A power of attorney or authorization of agent may also be revoked, and a registered representative may also withdraw as attorney or agent of record under 37 CFR 1.36. The rules of practice (37 CFR 1.33) also provide for the applicant, patentee, assignee, or representative of record to supply a correspondence address and daytime telephone number for receiving notices, official letters, and other communications from the USPTO. Further, the rules of practice (37 CFR 1.33(d) and 1.363) permit the applicant, patentee, assignee, or representative of record to specify a separate “fee address” for correspondence related to maintenance fees, which is covered under OMB Control Number 0651-0016 “Rules for Patent Maintenance Fees.” Maintaining a correct and updated correspondence address is necessary so that correspondence from the USPTO related to a patent or application will be properly received by the applicant, patentee, assignee, or authorized representative.

The USPTO's Customer Number practice permits applicants, patentees, assignees, and registered representatives to efficiently change the correspondence address or registered representatives for a number of patents or applications with one change request instead of filing separate change requests for each patent or application. Customers may request a customer number from the USPTO and associate this customer number with a correspondence address or a list of registered practitioners. Customers may then use this customer number to designate or change the correspondence address or to grant power of attorney to the list of registered practitioners for any number of patents or applications. Any changes to the address or practitioner information associated with a customer number will be applied to all patents and applications associated with that customer number.

The Customer Number practice is optional, in that changes of correspondence address or appointments of registered representatives may be filed separately for each patent or application. However, a customer number associated with the correspondence address for a patent application is required in order to access information about the application using the Patent Application Information Retrieval (PAIR) system, which is available through the USPTO web site. The PAIR system allows authorized individuals secure access to application status information over the Internet, but only for patent applications that are linked to a customer number. Increased access to the PAIR system over the Internet has resulted in an increase in requests for a customer number. This increase in submissions of customer number requests due to a program change was submitted to the Office of Management and Budget (OMB) as part of a change worksheet and approved by OMB on November 29, 2001.

This information collection includes the information necessary to submit a request to grant or revoke power of attorney or authorization of agent for a patent application and for a registered representative to withdraw as attorney or agent of record for a patent application. This collection also includes the information necessary to request a customer number and associate a correspondence address or list of practitioners with this customer number, to change the correspondence address or practitioners associated with a customer number, and to designate or change the correspondence address or registered representatives for one or more patents or applications.

In addition to the forms offered by the USPTO to assist customers with providing the information covered by this collection, customers may also use a spreadsheet format (Customer Number Upload Spreadsheet) to designate or change the correspondence address, fee address, or power of attorney information for a list of patents or applications. The Customer Number Upload Spreadsheet must be submitted to the USPTO on a computer-readable diskette as specified in the notice entitled “Extension of the Payor Number Practice (Through ‘Customer Numbers’) to Matters Involving Pending Patent Applications,” published in the Federal Register at 61 FR 54622, 54623-54624 (October 21, 1996). The diskette must be accompanied by a paper copy of the spreadsheet and a signed cover letter requesting entry of the address and representative changes for the listed patents and applications. The spreadsheet and printed materials must be mailed to the USPTO and cannot be filed electronically over the Internet. Customers may download a Microsoft Excel template with instructions from the USPTO web site to assist them in preparing the spreadsheet in the proper format. The USPTO expects that the number of Customer Number Upload Spreadsheet submissions will increase as the use of customer numbers and electronic filing of patent applications increases.

This collection previously included a means to authorize an attorney or agent to take instructions from an intermediate representative without directly contacting the applicant or assignee (Instruction Authorization Form PTO/SB/84), but this form is being deleted because the corresponding USPTO policy is no longer in force.

II. Method of Collection

By mail, facsimile, or hand delivery to the USPTO.

III. Data

OMB Number: 0651-0035.

Form Number(s): PTO/SB/81/82/83/121/122/123/124A/124B/125A/125B.

Type of Review: Revision of a currently approved collection.

Affected Public: Individuals or households; businesses or other for-profits; not-for-profit institutions; and the Federal Government.

Estimated Number of Respondents: 338,280 responses per year.

Estimated Time Per Response: The USPTO estimates that it will take the public approximately 3 to 12 minutes (0.05 to 0.2 hours) to complete this information, depending on the form. This includes time to gather the necessary information, prepare the form, and submit the completed request. The USPTO estimates that it will take the public approximately 1 hour and 45 minutes (1.75 hours) to submit a Customer Number Upload Spreadsheet, including the time for preparing the spreadsheet file on diskette, printing the copy of the spreadsheet, and producing the signed cover letter.

Estimated Total Annual Respondent Burden Hours: 31,259 hours per year.

Estimated Total Annual Respondent Cost Burden: $957,750 per year. The USPTO expects that Requests for Withdrawal as Attorney or Agent will be prepared by an attorney and that the other items in this collection will be prepared by paraprofessionals. Using the professional hourly rate of $252 per hour for associate attorneys in private firms, the USPTO estimates that the respondent cost burden for submitting Requests for Withdrawal as Attorney or Agent (PTO/SB/83) will be $22,680 per year. Using the paraprofessional hourly rate of $30 per hour, the USPTO estimates that the respondent cost burden for submitting the other forms in this collection and the Customer Number Upload Spreadsheets will be $935,070 per year. The total respondent cost burden is $957,750 per year.

Item | Estimated time for response | Estimated annual responses | Estimated annual burden hours
Power of Attorney or Authorization of Agent | 3 minutes | 312,700 | 15,635
Revocation of Power of Attorney or Authorization of Agent | 3 minutes | 615 | 31
Request for Withdrawal as Attorney or Agent | 12 minutes | 450 | 90
Correspondence Address Indication Form | 12 minutes | 55 | 11
Change of Correspondence Address | 3 minutes | 12,000 | 600
Request for Customer Number Data Change | 12 minutes | 560 | 112
Request for Customer Number | 12 minutes | 3,900 | 780
Customer Number Upload Spreadsheet | 1 hour and 45 minutes | 8,000 | 14,000
Total |  | 338,280 | 31,259

Estimated Total Annual Non-hour Respondent Cost Burden: $356. There are no maintenance costs or filing fees associated with this information collection. However, this collection does have annual (non-hour) cost burden in the form of capital start-up costs associated with using the Customer Number Upload Spreadsheet to change the correspondence address or power of attorney for a list of patents or applications. The spreadsheet must be submitted to the USPTO on a computer-readable diskette. The retail price of the latest version of the Microsoft Excel software for creating the spreadsheet file is $339, although this software is commonly purchased as part of a bundle with other Microsoft Office applications such as Word, Outlook, and PowerPoint. A box of ten 3.5-inch diskettes can be purchased for approximately $5, or 50 cents per diskette. Padded mailing envelopes for safely shipping the diskettes can be purchased for approximately $12 for a package of 12, or $1 per envelope. The total non-hour respondent cost burden in the form of capital start-up costs is $356 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 12, 2002.
Susan K. Brown,
Records Officer, USPTO, Office of Data Management, Data Administration Division.

[FR Doc. 02-15233 Filed 6-17-02; 8:45 am]

BILLING CODE 3510-16-P